DEPARTMENT OF THE INTERIOR

Bureau of Indian Affairs

Final Environmental Impact Statement for the Proposed Enterprise Rancheria Gaming Facility and Hotel Fee-to-Trust Acquisition Project, Yuba County, CA

AGENCY: Bureau of Indian Affairs, Interior.

ACTION: Notice of Availability.

SUMMARY: This notice advises the public that the Bureau of Indian Affairs (BIA) as lead agency, with the Enterprise Rancheria of Estom Yumeka Maidu Tribe (Tribe), National Indian Gaming Commission, U.S. Environmental Protection Agency (EPA) and Yuba County, California as cooperating agencies, intends to file a Final Environmental Impact Statement (FEIS) with the EPA for the Tribe's proposed Gaming Facility and Hotel Fee-to-Trust Acquisition Project to be located within unincorporated Yuba County, California, and that the FEIS is now available for public review.

DATES: The Record of Decision on the proposed action will be issued no sooner than 30 days after the release of the FEIS. Thus, any comments on the FEIS must arrive by September 7, 2010.

ADDRESSES: You may mail or hand carry written comments to Dale Morris, Regional Director, Bureau of Indian Affairs, Pacific Region, 2800 Cottage Way, Sacramento, California 95825. The FEIS is available for public review on the following Web site: http://www.EnterpriseEIS.com and at the Yuba County Public Library, 303 2nd Street, Marysville, California 95901; the Sutter County Library, 720 Forbes Avenue, Yuba City, California 95991; and the Butte County Library, 1820 Mitchell Avenue, Oroville, California 95966. See SUPPLEMENTARY INFORMATION for instructions for submitting comments and instructions for obtaining a compact disk copy of the FEIS.

FOR FURTHER INFORMATION CONTACT: John Rydzik, (916) 978-6051. General information for the Yuba County Public Library can be obtained by calling (530) 749-7380. For information on Sutter County Library please call (530) 822-7137. For the Butte County Library, please call (530) 538-7641.

SUPPLEMENTARY INFORMATION: The Tribe has requested that the BIA take into trust 40 acres currently held in fee, on which the Tribe proposes to construct a gaming facility, hotel, parking facilities, and other facilities. The proposed 40-acre site (Yuba Site) is located in unincorporated Yuba County, California, approximately four miles southeast of the Community of Olivehurst, near the intersection of Forty Mile Road and State Route 65 (SR-65). The proposed project includes the development of an approximately 207,760 square-foot gaming facility, 107,125 square-foot hotel, and 2,750 parking spaces on the Yuba Site. The two-story gaming facility would include a casino floor, food and beverage areas (consisting of a buffet, gourmet restaurant, and bar), meeting space, guest support services, offices, and a security area. The resort would include: an eight-story hotel with 170 rooms, a pool area, an exercise room, retail space, and an arcade. Access to the site would be provided from Forty Mile Road.

Project alternatives considered in the FEIS include: (A) The proposed casino and hotel alternative; (B) a reduced intensity alternative; (C) non-gaming use alternative; (D) a reduced intensity—Butte County alternative; and (E) a no action alternative. Alternative A has been selected as the Preferred Alternative, as discussed in the FEIS. The alternatives are intended to assist the review of the issues presented, but the Preferred Alternative does not necessarily reflect what the final decision will be, because a complete evaluation of the criteria listed in 25 CFR part 151 may lead to a final decision that selects an alternative other than the Preferred Alternative, including no action, or that selects a variant of the Preferred or another of the alternatives analyzed in the FEIS.

Environmental issues addressed in the FEIS include land resources, water resources, air quality, biological resources, cultural and paleontological resources, socioeconomic conditions, environmental justice, transportation and circulation, land use, public services, noise, hazardous materials, visual resources, cumulative effects, indirect effects and mitigation measures.

The BIA has afforded other government agencies and the public extensive opportunity to participate in the preparation of this EIS. The BIA published a notice of intent to prepare the EIS for the proposed action in the Federal Register on May 20, 2005 (70 FR 29363). The BIA held a public scoping meeting on June 9, 2005 in Marysville, California. A NOA for the Draft EIS (DEIS) was published in the Federal Register on March 21, 2008 (73 FR 15191). The DEIS was available for public comment from March 21 to May 5, 2008. The BIA held a public hearing on the DEIS on April 9, 2008, in Marysville, California.

To submit comments on the FEIS, please include your name, return address and the caption, “FEIS Comments, Enterprise Rancheria, Gaming Facility and Hotel Fee-to-Trust Acquisition Project,” on the first page of your written comments. Before including your address, phone number, e-mail address, or other personal identifying information in your comment, you should be aware that your entire comment—including your personal identifying information—may be made publicly available at any time. While you can ask us in your comment to withhold your personal identifying information from public review, we cannot guarantee that we will be able to do so.

To obtain compact disk copy of the FEIS, please provide your name and address in writing or by voicemail to John Rydzik, Chief of the Division of Environmental, Cultural Resources Management and Safety, at the BIA address above or at the telephone number provided in the FOR FURTHER INFORMATION CONTACT section of this notice. Individual paper copies of the FEIS will be provided upon payment of applicable printing expenses by the requestor for the number of copies requested.

Authority

This notice is published in accordance with section 1503.1 of the Council on Environmental Quality Regulations (40 CFR parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: July 20, 2010.
Donald Laverdure,
Deputy Assistant Secretary—Indian Affairs.

[FR Doc. 2010-19194 Filed 8-5-10; 8:45 am]

BILLING CODE 4310-W7-P